DEPARTMENT OF ENERGY

Federal Energy Regulatory Commission

[Docket No. CP09-23-000]

CenterPoint Energy Gas Transmission Company; Notice of Request Under Blanket Authorization

November 21, 2008.

Take notice that on November 14, 2008, CenterPoint Energy Gas Transmission Company (CEGT), 1111 Louisiana Street, Houston, Texas 77002, filed in Docket No. CP09-23-000, a prior notice request pursuant to sections 157.205 and 157.216 of the Federal Energy Regulatory Commission's regulations under the Natural Gas Act for authorization to abandon in place certain segments of Line K, a low-pressure delivery lateral, located in Ouachita and Union Counties, Arkansas and Union Parish, Louisiana, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, CEGT proposes to abandon in place three segments of its existing Line K pipeline comprising approximately 19 miles of pipe and appurtenant facilities including valves and rectifiers. CEGT first proposes to abandon approximately 11.0 miles of 16-inch diameter pipeline (Segment One); the next segment is approximately 1.3 miles of 12-inch diameter pipeline (Segment Two), located in Ouachita County, Arkansas; and the final segment of Line K is approximately 6.7 miles of 12-inch diameter pipeline, located in Ouachita and Union Counties, Arkansas. CEGT states that it has determined that it is not economical to continue to own and operate certain Line K segments identified herein, and abandonment of these pipeline segments will allow CEGT to reduce operating costs. CEGT asserts that no customer service will be terminated by the proposed abandonment of these segments of Line K.

Any questions regarding the application should be directed to Lawrence O. Thomas, Director, Rate & Regulatory, CenterPoint Energy Gas Transmission Company, P.O. Box 21743, Shreveport, Louisiana 71151, at (318) 429-2804 or (318) 429-3133 (facsimile).

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a) (1) (iii) and the instructions on the Commission's Web site (http://www.ferc.gov) under the “e-Filing” link.

Kimberly D. Bose,
Secretary.

[FR Doc. E8-28283 Filed 11-26-08; 8:45 am]

BILLING CODE 6717-01-P